DEPARTMENT OF JUSTICE

Notice of Lodging of Consent Decree Under the Clean Water Act

Under 28 C.F.R. § 50.7 notice is hereby given that on September 16, 2002, a proposed Consent Decree in United States v. Wolcottville Sand and Gravel Corporation, d/b/a London Aggregates, No. 98-CV-74192 (E.D. Mich.), and PIRGIM Public Interest Lobby v. Wolcottville Sand and Gravel Corporation, d/b/a London Aggregates, No. 98-73730 (E.D. Mich.) was lodged with the United States District Court for the Eastern District of Michigan.

The United States' complaint sought injunctive relief and civil penalties for Wolcottville's violations of the conditions and limitations of its National Pollutant Discharge Elimination System (“NPDES”) permit, issued by the State of Michigan pursuant to CWA Section 402, 33 U.S.C. 1342, at Wolcottville's limestone quarry in Milan, Monroe County, Michigan. Under the proposed consent decree, Wolcottville will modify its mining operations such that it will be able to eliminate all discharges at the quarry and surrender its National Pollution Discharge Elimination System permit. Wolcottville will also pay $75,000 to resolve the United States' claim for civil penalties, perform certain supplemental environmental projects at a cost of $360,000 in partial mitigation of the United States' civil penalty claims, and undertake two restoration projects in settlement of the citizen plaintiffs' claims.

The Department of Justice will receive for a period of thirty (30) days from the date of this publication comments relating to the proposed Consent Decree. Comments should be addressed to the Assistant Attorney General, Environment and Natural Resources Division, P.O. Box 7611, U.S. Department of Justice, Washington, D.C. 20044-7611, and should refer to United States v. Wolcottville Sand and Gravel Corporation, d/b/a London Aggregates, No. 98-CV-74192 (E.D. Mich.), D.J. Ref. 90-5-1-1-4461.

The Consent Decree may be examined at the Office of the United States Attorney, Eastern District of Michigan, 211 W. Fort Street Detroit, Michigan 48226-3211 (contact Assistant United States Attorney Mary Rigdon, 313-226-9100), and at U.S. EPA Region 5, 77 W. Jackson Blvd., Chicago Illinois (contact Assistant Regional Counsel Richard Clarizio (312-886-0559). A copy of the Consent Decree may also be obtained by mail from the Consent Decree Library, P.O. Box 7611, U.S. Department of Justice, Washington, DC 20044-7611 or by faxing a request to Tonia Fleetwood, fax no. 202-616-6584, telephone confirmation number 202-514-1547. In requesting a copy, please enclose a check in the amount of $15.25 (25 cents per page reproduction cost) payable to the U.S. Treasury.

William Brighton,
Assistant Chief, Environmental Enforcement Section, Environment and Natural Resources Division.

[FR Doc. 02-25518 Filed 10-7-02; 8:45 am]

BILLING CODE 4410-11-M